DEPARTMENT OF ENERGY

Federal Energy Regulatory Commission

[Docket Nos.CP06-418-000]

Kinder Morgan Interstate Gas Transmission LLC & Northern Natural Gas Company; Notice of Petition for Waiver of Rule

July 13, 2006.

On July 10, 2006, as amended on July 12, 2006, Kinder Morgan Interstate Gas Transmission LLC (KMIGT) and Northern Natural Gas Company (Northern), pursuant to section 385.207 of the Federal Energy Regulatory Commission's (Commission) regulations jointly petition the Commission for a temporary waiver of section 157.202(b)(2)(ii)(A), (B) and (C) of the Commission's regulations, which exclude a main line of a gas transmission system, an extension of a main line, and a facility, including compression and looping, that alters the capacity of a main line (except for certain replacement faculties and facility modifications) from the facilities eligible for construction under a section 157, subpart F blanket certificate. For reasons explained more fully in the filing, petitioners request that the exclusion of these facilities be waived to allow the construction of such main line facilities under a blanket certificate pending issuance of a final rule in Docket No. RM06-7-000,¹ for the purpose of providing service to any new plant constructed or existing plant expanded for the production of “renewable fuel” as defined in section 1501 of the Energy Policy Act of 2005.² If the Commission conditions its waiver to incorporate the 60-day prior notice requirement proposed in the NOPR, such a condition would be acceptable to the Petitioners.

¹ Revisions to the Blanket Certificate Regulations and Clarification Regarding Rates, 115 FERC ¶ 61,338 (2006).

² Public Law 109-58, 119 Stat. 594, 1067-68 (2005) (to be codified at 42 U.S.C. 7545).

Questions concerning the Petition should be directed to: Bentley W. Breland, Vice-President, Certificates and Rates, Kinder Morgan Interstate Gas Transmission LLC, P.O. Box 281304, Lakewood, Colorado 80228-8304. Telephonically, he may be contacted at (303) 763-3581.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. However, a person does not have to intervene in order to have comments considered.

The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See 18 CFR 385.2001(a)(1)(iii) and the instructions on the Commission's Web site under the “e-Filing” link at http://www.ferc.gov. The Commission strongly encourages intervenors to file electronically. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 3, 2006.

Magalie R. Salas,
Secretary.

[FR Doc. E6-11656 Filed 7-21-06; 8:45 am]

BILLING CODE 6717-01-P